Valles Caldera Trust

Notice of Intent To Prepare an Environmental Impact Statement for a Long-Term Landscape Restoration and Management Plan To Restore and Manage the Forest, Grassland, and Riparian Ecosystems of the Valles Caldera National Preserve

Authority: The National Environmental Policy Act of 1969 (NEPA), CEQ Regulations at 40 CFR parts 1500 through 1508, The Valles Caldera Preservation Act, Public Law 106-248, NEPA Procedures for the Valles Caldera National Preserve, 68 CFR 42460.

AGENCY: Valles Caldera Trust.

ACTION: Notice of Intent to prepare an Environmental Impact Statement.

SUMMARY: The Valles Caldera Trust (VCT) a wholly owned government corporation empowered to provide management and administrative services for the Valles Caldera National Preserve (VCNP) intends to prepare an Environmental Impact Statement (EIS) to analyze and disclose the potential impacts of a proposed Landscape Restoration and Management Plan (LRMP) which includes mechanical treatments, prescribed burning, management of lightning caused wildland fires (wildland fire use), restoration or riparian areas, closure and maintenance of roads and eradication of noxious weeds and invasive plants. A combination of these management activities are being proposed over the next 10-years as follows:

1. Mechanical Treatments—Mechanical treatments are being proposed on approximately 20,000 acres over 10 years depending on funding and possible adjustments based on monitoring and evaluation of treatments. These treatments include tree cutting and removing or otherwise disposing of the associated biomass. Trees may be cut using chainsaws or equipment. Feller-bunchers, masticators, or small dozers equipped with saw blades, are some of the more common types of equipment employed. Forest thinning will be implemented under prescription parameters that will specify the size, species and other parameters that would determine whether a tree will be cut or left. In general, the forests of the preserve are dominated by an excess of trees 7-16 in diameter and these trees sizes would be targeted for removal.

2. Prescribed Fire/Wildland Fire Use—Prescribed fire is being proposed in conjunction with the mechanical treatment described above. In addition, prescribed fire alone is being proposed on nearly 59,000 acres of forest and grassland ecosystems over a 10-year period. The management of lightning caused fires (wildland fire use) to achieve resource benefits is also being proposed. Wildland fire use would be limited initially due to the current forest condition but could increase over time as forests are treated and wildfire risk is reduced. The use of wildland fire is being proposed as a tool for restoration and management of the preserve's forests and grasslands and ultimately proposes to reintroduce fire as a beneficial ecosystem process. The actual acres treated with prescribed fire over 10 years would depend on funding, environmental conditions—especially weather, the completion of mechanical treatments, and possible adjustments due to monitoring and evaluation results.

3. Road Closure, Rehabilitation and Maintenance—The closure and rehabilitation of approximately 1000 miles of roads is being proposed over the next 10 years. Administrative closures would be the primary tool used to close roads to motorized use, allowing natural rehabilitation. Approximately 150 miles of the road network requires physical rehabilitation to halt ongoing erosion. Some roads would be reduced to a maintenance level-1, rather than closed. This designation allows non-motorized use as well as temporary motorized use for administrative actions such as forest management, search and rescue, or wildland fire management.

4. In combination with road management actions as described above, the trust is also proposing to restore wetland and riparian areas throughout the preserve. The wetland and wet meadow systems containing the preserves riparian areas, and streams comprise just over 6,800 acres, mostly within the open valle systems. Restoration activities would include stream bank and channel restoration to address site specific erosion, placement of log and fabric dams, gully plugs, or Zuni bowl techniques to protect and restore wetlands. Willow plantings or placement of sod plugs are among techniques proposed for improving stream bank integrity.

5. Prevention and Eradication of Noxious Weeds—Under the proposed LRMP, current efforts to eradicate Canada, musk, and bull thistle populations would continue. This includes continuing to mechanically treat (cut, hoe and bag seed heads) musk thistle in combination with the application of the herbicide, clopyralid to treat Canada and bull thistle. The trust is also proposing to use clopyralid to eradicate oxeye daisy (Leucanthemum vulgare), and glyphosate (Roundup), Imazipic (Plateau), or the combination of both (Journey) to eradicate cheatgrass (Bromus tectorum) primarily in road cuts and other disturbed areas. The VCT is also proposing to implement performance requirements to reduce the risk of introducing new noxious weed species or further spread of existing species.

6. No Treatment—Areas of the preserve could remain untreated based on the existing condition, access, available funding, priorities, and annual weather or other conditions which affect implementation.

Based on initial analysis and public comments, alternatives to the proposed action will be developed. Action alternatives will likely vary in the acres treated by wildland fire and mechanical methods but also may include other actions not currently being considered.

Purpose and Need for Action: The purpose of the proposed LRMP is to move the current forest structure towards the reference condition: the condition that, to the best of our knowledge, is resilient and sustainable under expected climate and disturbance events. Currently the condition of the preserve's forests is significantly departed from the reference condition. The riparian and grassland systems are moderately departed from the reference condition but, are at risk of being directly and indirect affected by the current condition of the forests.

The action is needed to meet the purposes and goals identified in the Valles Caldera Preservation Act (http://www.vallescaldera.gov/about/trust/docs/PL%20106-248.pdf), the Management Principles adopted by the VCT Board of Trustees in 2001, (http://www.vallescaldera.gov/about/trust/docs/MgmtPrinciples.pdf), and the collaboratively developed goals and objectives presented in the Southwest Jemez Mountains Collaborative Forest Landscape Restoration Strategy (http://www.fs.fed.us/r3/sfe/jemez_mtn_rest/docs.htm.).

DATES: This scoping process will culminate in the preparation of a draft EIS which will be made available for public comment. To ensure that the Trust has an opportunity to fully consider public comments in the development of the alternatives and determining the scope of the analysis and to facilitate the prompt preparation of the draft EIS, comments regarding the proposed Landscape Restoration and Management Plan, are requested on or before August 18, 2010.

To receive future notices regarding planning and decision making for the LRMP, including the times and locations of public meetings, subscribe to the Trust's user maintained mailing list. To subscribe, access our Web site, http://www.vallescaldera.gov, and select the “Mailing List” tab from the upper left corner of the home page. You will be asked to select one or more topics of interest. Check “Project Planning and Decisions” to receive updates on this and other planning efforts.

ADDRESSES: You may submit comments on the proposed LRMP by any of the following methods:

E-mail: comments@vallescaldera.gov; include Landscape Restoration and Management Plan as the subject.

Surface Mail: The Valles Caldera Trust, P.O. Box 359 Jemez Springs, NM 87025.

Hand Delivery/Courier: Valles Caldera Trust, 18161 State Highway 4, Jemez Springs, New Mexico.

Agency Web site: Detailed information on the existing condition of the preserve's ecosystems, the methodology used to assess the existing condition, including collaboration with the Santa Fe National Forest and others on landscape restoration across the southwestern Jemez Mountains is available on the trusts Web site, http://www.vallescaldera.gov. Select feedback from these pages to provide comments.

FOR FURTHER INFORMATION: Contact Marie E. Rodriguez, Natural Resource Coordinator at mrodriguez@vallescaldera.gov, or 505/661-3333.

SUPPLEMENTARY INFORMATION: The Valles Caldera National Preserve (VCNP) is located in north-central New Mexico in the Jemez Mountains, primarily in Sandoval County with a small inclusion in Rio Arriba County. The VCNP was acquired by the Federal Government in 2000 with the signing of the Valles Caldera Preservation Act (Pub. L. 106-248). Besides acquisition of the land, the law established the Valles Caldera Trust, a wholly owned government corporation and non-profit 501(c) 1 organization to manage the Preserve. Management of the VCNP is considered an experiment in public land management. The purposes and goals from Public Law 106-248 that are being specifically addressed in the proposed LRMP include: the protection and preservation of the preserve's natural and cultural resources and values, the multiple use and sustained yield of timber and forage resources, enhancing the objectives on surrounding National Forest System land, and providing benefits to local communities and businesses.

Since 2002, the Trust has been gathering data and information in order to comprehensively assess the existing condition of preserve's resources. This effort has yielded a 6-meter resolution map of the preserve's ecosystems, a delineation of individual stands as defined by structure and composition, a preserve-wide stratified sampling of the preserve's forests which inventoried and permanently located nearly 600 forest field plots. Other inventory and monitoring activities has included the establishment of 41 permanent monitoring sites in the preserve grasslands and riparian areas, 2 sites that measure forest processes (carbon and water cycling), 5 climate stations, and stations that measure bother water quality and quantity as various locations. The trust has also completed inventories to identify the flora and fauna species represented on the preserve, threatened and endangered wildlife species and habitats, and studies to understand the population and relationships of key wildlife species. These inventories and studies have been undertaken by the trust in collaboration with other Federal and well as state agencies, as well as many universities, non-government organizations, and volunteers. This comprehensive baseline data provides the basis for planning and implementing a LRMP supported by a systematic approach to adaptive management as required in the NEPA procedures of the trust.

Beginning in December 2008, the Valles Caldera Trust, Santa Fe National Forest, New Mexico Forest and Watershed Restoration Institute, and The Nature Conservancy began meeting to strategize a collaborative effort to manage and restore over 200,000 acres in the upper Jemez River Watershed. Through this collaborative effort we were able to work across boundaries, sharing data and specialists in support of assessing the existing conditions. Further efficiencies can be gained through collaboratively implementing management actions as well as monitoring and evaluating activities across boundaries.

The restoration partners worked together to expand their collaboration to federal, state and local agencies, non-government organizations, and individual citizens interested in forest restoration and management in the Jemez Mountains. A three day workshop was held February 9-11, 2010 in Santa Fe, New Mexico to review and affirm the current assessments and develop a strategy to collaboratively restore the ecosystems within the 210,000 acre landscape including all of the VCNP. The strategy included goals and objectives for restoration, types of restoration treatments that should be considered, the priority of treatments, as well as a strategy for monitoring and evaluating the effectiveness and effects of treatments. This strategy was submitted for funding under the Collaborative Forest Landscape Restoration Program. Information on that program as well as the strategy submitted and all supporting information are available on the Santa Fe National Forest's Web site, http://www.fs.fed.us/r3/sfe/jemez_mtn_rest/docs.htm. The proposed LRMP was based upon this collaborative strategy.

Responsible Official: Dennis Trujillo, Preserve Manager, is designated as the Responsible Official and will make the implementing decision oversee planning and implementation of the proposed LRMP.

Dated: July 8, 2010.
Gary Bratcher,
Executive Director.

[FR Doc. 2010-17371 Filed 7-15-10; 8:45 am]

BILLING CODE 3410-H6-P